DEPARTMENT OF DEFENSE

Office of the Secretary

[Transmittal No. 24-95]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-95, Policy Justification, and Sensitivity of Technology.

Dated: November 18, 2025.
Stephanie J. Bost,
Alternate OSD Federal Register Liaison Officer, Department of Defense.

Transmittal No. 24-95

Notice of Proposed Issuance of Letter of Offer Pursuant to Section 36(b)(1) of the Arms Export Control Act, as amended

(i) Prospective Purchaser: Government of Croatia

(ii) Total Estimated Value:

Major Defense Equipment * | $340 million
Other | $ 50 million
TOTAL | $390 million

Funding Source: National Funds

(iii) Description and Quantity or Quantities of Articles or Services under Consideration for Purchase:

Major Defense Equipment (MDE):

Eight (8) M142 High Mobility Artillery Rocket Systems (HIMARS)

Twenty-four (24) M30A2 Guided Multiple Launch Rocket System (GMLRS) Alternative Warhead (AW) Pods with Insensitive Munitions Propulsion System (IMPS)

Twenty-four (24) M31A2 GMLRS-Unitary High Explosive (HE) Pods with IMPS

Two (2) M1152 High Mobility Multi-purpose Wheeled Vehicles (HMMWV) with Next Generation SECM (NG SECM)

Eight (8) M1152 HMMWVs with Command-and-Control Communications Shelters

Thirty-six (36) Defense Advanced GPS Receivers (DAGR)

Non-Major Defense Equipment:

The following non-MDE items will also be included: Low Cost Reduced Range Practice Rocket (LCRRPR) pods; AN/PRC-117G radios; AN/PRC-158 radios; AN/PRC-160 radios; Common Fire Control Systems (CFCS); International Field Artillery Tactical Data Systems (IFATDS); software; training; resupply vehicles; technical assistance; and other related elements of program and logistic support.

(iv) Military Department: Army (HR-B-UCK)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 30, 2024

* as defined in Section 47(6) of the Arms Export Control Act.

POLICY JUSTIFICATION

Croatia—M142 High Mobility Artillery Rocket Systems

The Government of Croatia has requested to buy eight (8) M142 High Mobility Artillery Rocket Systems (HIMARS); twenty-four (24) M30A2 Guided Multiple Launch Rocket System (GMLRS) Alternative Warhead (AW) Pods with Insensitive Munitions Propulsion System (IMPS); twenty-four (24) M31A2 GMLRS-Unitary High Explosive (HE) Pods with IMPS; two (2) M1152 High Mobility Multipurpose Wheeled Vehicles (HMMWV) with Next Generation SECM (NG SECM); eight (8) M1152 HMMWVs with Command and Control Communications Shelters; and thirty-six (36) Defense Advanced GPS Receivers (DAGR). The following non-MDE items will also be included: Low Cost Reduced Range Practice Rocket (LCRRPR) pods; AN/PRC-117G radios; AN/PRC-158 radios; AN/PRC-160 radios; Common Fire Control Systems (CFCS); International Field Artillery Tactical Data Systems (IFATDS); software; training; resupply vehicles; technical assistance; and other related elements of program and logistic support. The estimated total program cost is $390 million.

This proposed sale will support the foreign policy and national security of the United States (U.S.) by improving the security of a NATO Ally that continues to be an important force for political stability and economic progress in Europe.

The proposed sale will improve Croatia's capability to deter current and future threats and support coalition operations as well as promote interoperability with the U.S. and other NATO forces. Croatia will have no difficulty absorbing this equipment into its armed forces.

The proposed sale of this equipment and support will not alter the basic military balance in the region.

The principal contractor will be Lockheed Martin, located in Grand Prairie, TX. There are no known offset agreements in connection with this potential sale.

Implementation of this proposed sale will require the assignment of four U.S. Government and four contractor representatives to travel to Croatia for program management reviews to support the program. Travel is expected to occur approximately twice per year as needed to support equipment fielding and training.

There will be no adverse impact on U.S. defense readiness as a result of this proposed sale.

Transmittal No. 24-95

Notice of Proposed Issuance of Letter of Offer Pursuant to Section 36(b)(1) of the Arms Export Control Act

Annex

Item No. vii

(vii) Sensitivity of Technology:

1. The M142 High Mobility Artillery Rocket System (HIMARS) is a C-130 transportable wheeled launcher mounted on a 5-ton Family of Medium Tactical Vehicles truck chassis. HIMARS is the modern Army-fielded version of the Multiple Launch Rocket System (MLRS) M270 launcher and can fire all the MLRS Family of Munitions (FOM) including Guided Multiple Launch Rocket System (GMLRS) variants and the Army Tactical Missile System (ATACMS). Utilizing the MLRS FOM, the HIMARS can engage targets between 15 and 300 kilometers with Global Positioning System (GPS)-aided precision accuracy.

2. The GMLRS M31A2 Unitary is the Army's primary munition for units fielding the M142 HIMARS and M270Al Multiple Launcher Rocket System (MLRS) launchers. The M31 Unitary is a solid propellant artillery rocket that uses Global Positioning System/Precise Positioning Service (GPS/PPS)-aided inertial guidance provided by Selective Availability Anti-Spoofing Module (SAASM) or M-Code. It accurately and quickly delivers a single high-explosive blast fragmentation warhead to targets at ranges from 15-70 kilometers. The rockets are fired from a launch pod container that also serves as the storage and transportation container for the rockets. Each rocket pod holds six (6) total rockets.

3. The M30A2 GMLRS Alternative Warhead shares a greater than ninety percent commonality with the M31A1 Unitary. The primary difference between the GMLRS-U and GMLRS-AW is the replacement of the Unitary's high explosive warhead with a 200-pound fragmentation warhead of pre-formed tungsten penetrators which are optimized for effectiveness against large area and imprecisely located targets. The munitions otherwise share a common motor, GPS/PPS-aided inertial guidance and control system, fusing mechanism, multi-option height of burst capability, and effective range of 15-70 kilometers.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Croatia can provide the same degree of protection for the sensitive technology being released as the U.S. Government. This sale is necessary in furtherance of the U.S. foreign policy and national security objectives outlined in the Policy Justification.

7. All defense articles and services listed in this transmittal are authorized for release and export to the Government of Croatia.

[FR Doc. 2025-20504 Filed 11-20-25; 8:45 am]

BILLING CODE 6001-FR-P